DEPARTMENT OF LABOR

Employment and Training Administration

[TA-W-65,166]

Bradington-Young of Hickory, Hickory, NC; Notice of Termination of Investigation

Pursuant to Section 221 of the Trade Act of 1974, as amended, an investigation was initiated on February 9, 2009 in response to a petition filed on behalf of workers of Bradington-Young of Hickory, Hickory, North Carolina.

The petition is a photocopy of an earlier petition (TA-W-65,147), filed on February 6, 2009, that is the subject of an ongoing investigation for which a determination has not yet been issued. Further investigation in this case would duplicate efforts and serve no purpose. Therefore, the investigation under this petition has been terminated.

Signed at Washington, DC, this 12th day of February, 2009.
Linda G. Poole,
Certifying Officer, Division of Trade Adjustment Assistance.

[FR Doc. E9-3738 Filed 2-20-09; 8:45 am]

BILLING CODE 4510-FN-P